DEPARTMENT OF THE INTERIOR

Geological Survey

[GX23RL00UUW0400]

Agency Information Collection Activities; Cultural Ecosystem Services Mapping Survey

AGENCY: U.S. Geological Survey, Department of the Interior.

ACTION: Notice of information collection; request for comment.

SUMMARY: In accordance with the Paperwork Reduction Act of 1995 (PRA), the U.S. Geological Survey (USGS) is proposing a new information collection.

DATES: Interested persons are invited to submit comments on or before July 22, 2024.

ADDRESSES: Send your comments on this information collection request (ICR) by mail to USGS, Information Collections Clearance Officer, 12201 Sunrise Valley Drive, MS 159, Reston, VA 20192; or by email to gs-info_collections@usgs.gov. Please reference OMB Control Number 1028-NEW Cultural Ecosystem Services Mapping Survey in the subject line of your comments.

FOR FURTHER INFORMATION CONTACT: To request additional information about this ICR, contact Darius Semmens by email at dsemmens@usgs.gov, or by telephone at 303-236-1420. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1) and as part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The Salmon River Basin in central Idaho contains minerals that are in high demand due to the energy transition, which is increasing development pressure. The basin is also renowned for its recreational activities, notably those related to its wild and scenic rivers, and its cultural importance for subsistence hunting and fishing. These and other values important in the Salmon River Basin (SRB) are commonly characterized as cultural ecosystem services—the non-material benefits that people obtain from nature. They are culturally very important, but their value is not easily or appropriately monetized and as a result they are rarely accounted for quantitatively in environmental assessments. The overarching goal of the project is to develop spatial and non-spatial information about social values for these ecosystem services so that they can be considered in the context of mineral development proposals, environmental impact assessments, and other resource management decisions.

Title of Collection: Cultural Ecosystem Services Mapping Survey.

OMB Control Number: 1028-NEW.

Form Number: None.

Type of Review: New.

Respondents/Affected Public: Households within the Salmon River Basin (n=2400), summer river users on the Main Salmon (n=800), and tourists to the region (n=800).

Total Estimated Number of Annual Respondents: 2,000.

Total Estimated Number of Annual Responses: 2,000.

Estimated Completion Time per Response: 15 minutes.

Total Estimated Number of Annual Burden Hours: 500 hours.

Respondent's Obligation: Voluntary.

Frequency of Collection: One time.

Total Estimated Annual Nonhour Burden Cost: None.

An agency may not conduct or sponsor, and a person is not required to respond to, a collection of information unless it displays a currently valid OMB control number.

The authority for this action is the PRA (44 U.S.C. 3501 et seq.).

Lara E. Douglas,
Center Director, Rocky Mountain Region, USGS.

[FR Doc. 2024-11066 Filed 5-20-24; 8:45 am]

BILLING CODE 4338-11-P